DEPARTMENT OF THE TREASURY

Open Meeting of the Federal Advisory Committee on Insurance

AGENCY: Departmental Offices, Treasury.

ACTION: Notice of open meeting.

SUMMARY: This notice announces that the Department of the Treasury's Federal Advisory Committee on Insurance will convene a meeting on Wednesday, March 13, 2013, in Room 4125, 1500 Pennsylvania Avenue NW., Washington, DC, 20220, beginning at 9:00 a.m. Eastern Time. The meeting is open to the public, and the site is accessible to individuals with disabilities. The Federal Advisory Committee on Insurance will convene its meeting.

DATES: The meeting will be held on Wednesday, March 13, 2013, commencing at 9:00 a.m. Eastern Time.

ADDRESSES: The Federal Advisory Committee on Insurance meeting will be held in the Room 4125, 1500 Pennsylvania Avenue NW., Washington, DC 20220. The meeting will be open to the public. Because the meeting will be held in a secured facility, members of the public who plan to attend the meeting must contact the Federal Insurance Office (Office), at (202) 622-6910, by 5:00 p.m. Eastern Time on Friday, March 8, 2013, to inform the Office of the desire to attend the meeting and to provide the information that will be required to facilitate entry into the building.

FOR FURTHER INFORMATION CONTACT: James P. Brown, Senior Policy Advisor to the Federal Insurance Office, Room 2100, Department of the Treasury, 1425 New York Avenue NW., Washington, DC 20220, at (202) 622-6910 (this is not a toll-free number). Persons who have difficulty hearing or speaking may access this number via TTY by calling the toll-free Federal Relay Service at (800) 877-8339.

SUPPLEMENTARY INFORMATION: Notice of this meeting is provided in accordance with the Federal Advisory Committee Act, 5 U.S.C. App. II, 10(a)(2), through implementing regulations at 41 CFR 102-3.150.

Public Comment: Members of the public wishing to comment on the business of the Federal Advisory Committee on Insurance are invited to submit written statements by any of the following methods:

Electronic Statements

• Send electronic comments to faci@treasury.gov.

Paper Statements

• Send paper statements in triplicate to the Federal Advisory Committee on Insurance, Room 2100, Department of the Treasury, 1425 New York Avenue NW., Washington, DC 20220.

The Department of the Treasury will post all statements on its Web site http://www.treasury.gov/about/organizational-structure/offices/Pages/Federal-Insurance.aspx without change, including any business or personal information provided such as names, addresses, email addresses, or telephone numbers. The Department of the Treasury will also make such statements available for public inspection and copying in the Department of the Treasury's Library, 1500 Pennsylvania Avenue NW., Washington, DC 20220, on official business days between the hours of 10:00 a.m. and 5:00 p.m. Eastern Time. You can make an appointment to inspect statements by telephoning (202) 622-0990. All statements, including attachments and other supporting materials, received are part of the public record and subject to public disclosure. You should submit only information that you wish to make available publicly.

Tentative Agenda/Topics for Discussion: This is a periodic meeting of the Federal Advisory Committee on Insurance. In this meeting, the Federal Advisory Committee on Insurance will discuss topics of interest, international developments, and it will receive and discuss updates from its three subcommittees.

Dated: February 21, 2013.
Rebecca H. Ewing,
Executive Secretary.

[FR Doc. 2013-04533 Filed 2-26-13; 8:45 am]

BILLING CODE 4810-25-P